ENVIRONMENTAL PROTECTION AGENCY

[EPA-HQ-OPP-2024-0058; FRL-11681-08-OCSPP]

Pesticide Product Registration; Receipt of Applications for New Active Ingredients (August 2024)

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before December 2, 2024.

ADDRESSES: Submit your comments, identified by docket identification (ID) number EPA-HQ-OPP-2024-0058, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Registration Division (RD) (7505T), main telephone number: (202) 566-1030, email address: RDFRNotices@epa.gov. The mailing address is Office of Pesticide Programs, Environmental Protection Agency, 1200 Pennsylvania Ave., NW, Washington, DC 20460-0001. As part of the mailing address, include the contact person's name, division, and mail code.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications. For actions being evaluated under EPA's public participation process for registration actions, there will be an additional opportunity for public comment on the proposed decisions. Please see EPA's public participation website for additional information on this process (https://www.epa.gov/pesticide-registration/public-participation-process-registration-actions).

Notice of Receipt—New Active Ingredients

1. File Symbol: 279-OAOA. Docket ID number: EPA-HQ-OPP-2024-0402. Applicant: FMC Corporation, 2929 Walnut Street, Philadelphia, PA 19104. Product name: FMC-DOD29 A Herbicide. Active ingredient: Herbicide-tetflupyrolimet at 35.0%. Proposed use: Rice. Contact: RD.

2. File Symbol: 279-OAOI. Docket ID number: EPA-HQ-OPP-2024-0402. Applicant: FMC Corporation, 2929 Walnut Street, Philadelphia, PA 19104. Product name: TVE29-R 400SC Herbicide. Active ingredient: Herbicide-tetflupyrolimet at 35.0%. Proposed use: Rice. Contact: RD.

3. File Symbol: 279-OAOO. Docket ID number: EPA-HQ-OPP-2024-0402. Applicant: FMC Corporation, 2929 Walnut Street, Philadelphia, PA 19104. Product name: TVE29-R 1%G Herbicide. Active ingredient: Herbicide-tetflupyrolimet at 1.0%. Proposed use: Rice. Contact: RD.

4. File Symbol: 279-OAOT. Docket ID number: EPA-HQ-OPP-2024-0402. Applicant: FMC Corporation 2929 Walnut Street Philadelphia, PA 19104. Product name: Tetflupyrolimet Technical. Active ingredient: Herbicide-tetflupyrolimet at 97.0%. Proposed use: For formulation into end-use herbicides for use in rice and turf. Contact: RD.

5. File Symbol: 279-OTNE. Docket ID number: EPA-HQ-OPP-2024-0402. Applicant: FMC Corporation, 2929 Walnut Street, Philadelphia, PA 19104. Product name: TVE29-T 400SC Herbicide. Active ingredient: Herbicide-tetflupyrolimet at 35.0%. Proposed use: Turf. Contact: RD.

6. File Symbol: 279-OTNG. Docket ID number: EPA-HQ-OPP-2024-0402. Applicant: FMC Corporation, 2929 Walnut Street, Philadelphia, PA 19104. Product name: TVE29 400SC MUP. Active ingredient: Herbicide-tetflupyrolimet at 35.0%. Proposed use: For formulation into end-use herbicides for use in turf. Contact: RD.

7. File Symbol: 279-OTNL. Docket ID number: EPA-HQ-OPP-2024-0402. Applicant: FMC Corporation, 2929 Walnut Street, Philadelphia, PA 19104. Product name: TVE29-R 0.5%G Herbicide. Active ingredient: Herbicide-tetflupyrolimet at 0.5%. Proposed use: Rice. Contact: RD.

8. File Symbol: 279-OTNN. Docket ID number: EPA-HQ-OPP-2024-0402. Applicant: FMC Corporation, 2929 Walnut Street, Philadelphia, PA 19104. Product name: TVE29-T 0.119%G Herbicide. Active ingredient: Herbicide-tetflupyrolimet at 0.119%. Proposed use: Turf. Contact: RD.

9. File Symbol: 279-OTNR. Docket ID number: EPA-HQ-OPP-2024-0402. Applicant: FMC Corporation, 2929 Walnut Street, Philadelphia, PA 19104. Product name: TVE29-T 0.175%G Herbicide. Active ingredient: Herbicide-tetflupyrolimet at 0.175%. Proposed use: Turf. Contact: RD.

(Authority: 7 U.S.C. 136 et seq.)

Dated: October 11, 2024.
Kimberly Smith,
Acting Director, Information Technology and Resources Management Division, Office of Program Support.

[FR Doc. 2024-25487 Filed 10-31-24; 8:45 am]

BILLING CODE 6560-50-P